ENVIRONMENTAL PROTECTION AGENCY

[ER-FRL-6645-6]

Environmental Impact Statements; Notice of Availability

Responsible Agency: Office of Federal Activities, General Information (202) 564-7167 or http://www.epa.gov/compliance/nepa.

Weekly receipt of Environmental Impact Statements

Filed November 10, 2003 Through November 14, 2003.

Pursuant to 40 CFR 1506.9.

EIS No. 030518, Final EIS, FHW, MT, I-15 Corridor Project, Transportation Improvements from Montana City to the Lincoln Road Interchange, Funding and U.S. Army COE Section 404 Permit Issuance, Jefferson and Lewis & Clark Counties, MT, Wait Period Ends: December 22, 2003, Contact: Carl James (406) 449-5302.

EIS No. 030519, Draft EIS, AFS, CA, Meteor Project, Proposal for Harvesting Timber and Conducting Associated Activities on 744 Acres, Implementation, Klamath National Forest, Salmon River Ranger District, Siskiyou County, CA, Comment Period Ends: January 5, 2004, Contact: Margaret J. Boland (530) 841-4501. This document is available on the Internet at: http://www.fs.fed.us/r5/klamath/projects/project/meteor/.

EIS No. 030520, Final EIS, AFS, SD, Prairie Project Area, (Lower Rapid Creek Area) Multiple Resource Management Actions, Implementation, Black Hills National Forest, Mystic Ranger District, Pennington County, ID, Wait Period Ends: December 22, 2003, Contact: Robert Thompson (605) 343-1567.

EIS No. 030521, Final EIS, FAA, NJ, Atlantic City International Airport, Air Service Improvements, Economic Development and Efficiency and Safety Enhancements, Airport Layout Plan Approval, Atlantic County, NJ, Wait Period Ends: December 22, 2003, Contact: Daisy Mather (718) 553-2511.

EIS No. 030522, Final EIS, NSA, NM, Chemistry and Metallurgy Research Building Replacement Project, Consolidation and Relocation, Los Alamos National Laboratory, Los Alamos County, NM, Wait Period Ends: December 22, 2003, Contact: Elizabeth Withers (505) 667-8690.

EIS No. 030523, Final EIS, MMS, AK, Cook Inlet Planning Area Oil and Gas Lease Sales 191 and 199, Outer Continental Shelf, Offshore Marine Environment, Cook Inlet, AK, Wait Period Ends: December 22, 2003, Contact: George Valiulis (703) 787-1662.

EIS No. 030524, Final EIS, COE, GA, Lake Sidney Lanier Project to Continue the Ongoing Operation and Maintenance Activities Necessary for Flood Control, Hydropower Generation, Water Supply, Recreation, Natural Resources Management and Shoreline Management, U.S. Army COE Section 10 and 404 Permits, Dawson, Forsyth, Lumpkin, Hill and Gwinnett Counties, GA, Wait Period Ends: January 9, 2004, Contact: Glen Coffee (251) 690-2729.

EIS No. 030525, Draft EIS, AFS, OR, Biscuit Fire Recovery Project, Improve Firefighter Reduce the Risk of High-Intensity, Stand Replace Fire Public and Private Managed Lands, Siskiyou National Forest, Rogue River, Josephine and Curry Counties, OR, Comment Period Ends: January 5, 2004, Contact: Tom Link (541) 471-6500. This document is available on the Internet at: http://www.biscuitfire.com.

EIS No. 030526, Draft Supplement, FTA, WA, Central Link Light Rail Transit Project (Sound Transit) Construction and Operation of the North Link Light Rail Extension from Downtown Seattle and Northgate, Funding, Right-of-Way and U.S. Army COE Section Permits, Cities of Seattle, SeaTac and Tukwila, King County, WA, Comment Period Ends: January 30, 2004, Contact: John Witmer (206) 220-4463.

Amended Notices

EIS No. 030513, Draft EIS, NRC, IL, Quad Cities Nuclear Power Station Units 1 and 2, Supplement 16 to NUREG-1437, License Renewal, IL, Comment Period Ends: January 27, 2004, Contact: Louis L. Wheeler (301) 415-1444. Revision of FR Notice Published on 11/14/03: CEQ Comment Period Ending 12/29/2003 has been Extended to 1/27/2004.

Dated: November 18, 2003.
Joseph C. Montgomery,
Director, NEPA Compliance Division, Office of Federal Activities.

[FR Doc. 03-29190 Filed 11-20-03; 8:45 am]

BILLING CODE 6560-50-P